NATIONAL TRANSPORTATION SAFETY BOARD

Senior Executive Service Performance Review Board

AGENCY: National Transportation Safety Board.

ACTION: Notice.

SUMMARY: Notice is hereby given of the appointment of members of the National Transportation Safety Board, Performance Review Board (PRB).

FOR FURTHER INFORMATION CONTACT: Anh Bolles, Executive Resources Manager, Human Capital Management and Training, National Transportation Safety Board, 490 L'Enfant Plaza SW, Washington, DC 20594-0001, (202) 314-6355.

SUPPLEMENTARY INFORMATION: Section 4314(c)(1) through (5) of title 5, United States Code requires each agency to establish, in accordance with regulations prescribed by the Office of Personnel Management, one or more SES Performance Review Boards (PRB). The board reviews and evaluates the initial appraisal of a senior executive's performance by the supervisor and considers recommendations to the appointing authority regarding the performance of the senior executive.

The following have been designated as members of the 2024 Performance Review Board of the National Transportation Safety Board (NTSB):

Ms. Veronica Marshall, Chief Human Capital Officer, Office of Human Capital Management and Training, National Transportation Safety Board, PRB Chair.

Mr. Timothy LeBaron, Director, Office of Aviation Safety, National Transportation Safety Board.

Mr. Akbar Sultan, Director, Airspace Operations and Safety Program, National Aeronautics and Space Administration.

Ms. Kathryn Catania, Deputy Director, Office of Safety Recommendations and Communications, National Transportation Safety Board (alternate member to review the evaluations of SES members serving on this PRB).

Candi R. Bing,
Federal Register Liaison.

[FR Doc. 2024-23831 Filed 10-15-24; 8:45 am]

BILLING CODE P